DEPARTMENT OF ENERGY

Federal Energy Regulatory Commission

[Project No. 2145-060]

Public Utility District No. 1 of Chelan County (Chelan PUD); Notice of Application Tendered for Filing With the Commission, Establishing Procedural Schedule for Relicensing and a Deadline for Submission of Final Amendments

July 12, 2004.

Take notice that the following hydroelectric application and final preliminary draft Environmental Assessment have been filed with the Federal Energy Regulatory Commission (Commission) and are available for public inspection.

a. Type of Application: New major license.

b. Project No.: 2145-060.

c. Date Filed: June 29, 2004.

d. Applicant: Public Utility District No. 1 of Chelan County (Chelan PUD).

e. Name of Project: Rocky Reach Hydroelectric Project.

f. Location: On the Columbia River, near the town of Entiat, in Chelan County, Washington. The project occupies Federal lands.

g. Filed Pursuant to: Federal Power Act, 16 U.S.C. 791(a)-825(r).

h. Applicant Contact: Gregg Carrington, Licensing Director, Public Utility District No. 1 of Chelan County, 327 North Wenatchee Avenue, Wenatchee, WA 98801; telephone (509) 661-4178 or by e-mail to gregg@chelanpud.org.

i. FERC Contact: Kim Nguyen, Federal Energy Regulatory Commission, 888 First Street, NE., Washington, DC 20426; telephone (202) 502-6105 or by e-mail at kim.nguyen@ferc.gov.

j. Cooperating Agencies: We are asking Federal, State, and local agencies, and Indian tribes with jurisdiction and/or special expertise with respect to environmental issues to cooperate with us in the preparation of an environmental document pursuant to the National Environmental Policy Act (NEPA). Agencies and tribes who would like to request cooperating agency status should follow the instructions described in item k below.

k. Deadline for filing requests for cooperating agency status: September 10, 2004.

All documents (original and eight copies) must be filed with: Magalie R. Salas, Secretary, Federal Energy Regulatory Commission, 888 First Street, NE., Washington, DC 20426. Please put the project name “Rocky Reach Hydroelectric Project” and project number “P-2145-060” on the first page of all documents.

The Commission's Rules of Practice require all intervenors filing documents with the Commission to serve a copy of that document on each person on the official service list for the project. Further, if an intervenor files comments or documents with the Commission relating to the merits of an issue that may affect the responsibilities of a particular resource agency, they must also serve a copy of the document on that resource agency.

Requests for cooperating agency status may be filed electronically via the Internet in lieu of paper. See 18 CFR 385.2001(a)(1)(iii) and the instructions on the Commission's Web site http://www.ferc.gov under the “e-Filing” link. The Commission strongly encourages electronic filings.

l. This application is not ready for environmental analysis at this time.

m. The existing Rocky Reach Project consists of: (1) A 130-foot-high and 2,847-foot-long concrete gravity dam, with an 8,235-acre impoundment at normal maximum pool elevation of 707 feet National Geodetic Vertical Datum; (2) a 1,088-foot-long, 206-foot-wide powerhouse containing 11 turbine-generator units, Units 1 through 7 with an authorized capacity of 105,000 kilowatts (kW) and Units 8 through 11 with an authorized capacity of 125,400 kW; (3) a spillway that is integral to the dam and consists of twelve 50-foot-wide bays; (4) non-overflow sections; (5) fish passage facilities; (6) five sets of 230-kilovolt transmission lines that convey power from the powerhouse to the switchyard; and (7) appurtenant facilities.

n. A copy of the application and final preliminary draft environmental assessment are available for review in the Commission's Public Reference Room 888 First Street, NE., Room 2A, Washington, DC 20426 or may be viewed on the Commission's Web site http://www.ferc.gov using the “eLibrary” link. Enter the docket number excluding the last three digits in the docket number field to access the document. For assistance, call toll-free 866-208-3676 or e-mail FERC Online Support at FERCOnlineSupport@ferc.gov. The TTY number is (202) 502-8659. A copy is also available for inspection and reproduction at the address in item h above.

You may also register online at http://www.ferc.gov/docs-filing/esubscription.asp to be notified via email of new filings and issuances related to this or other pending projects. For assistance, contact FERC Online Support.

o. With this notice, we are initiating consultation with the Washington State Historic Preservation Officer, as required by section 106 of the National Historic Preservation Act and the regulations of the Advisory Council on Historic Preservation at 36 CFR 800.4.

p. Procedural Schedule: During 1999 and 2000 a public scoping process was conducted, as outlined in Chelan PUD's final preliminary draft Environmental Assessment. This application will be processed according to the following Hydro Licensing Schedule. The Commission staff intends to prepare an Environmental Impact Statement for the project in accordance with NEPA. Revisions to the schedule may be made as appropriate.

Issue Acceptance or Deficiency Letter: August 2004

Notice Accepting Application and Requesting Motions to Intervene: August 2004

Notice Soliciting Final Terms and Conditions: August 2004

Notice of the Draft Environmental Impact Statement (EIS): March 2005

Notice of the Final EIS: November 2005

Ready for Commission Decision on the Application: May 2006

Final amendments to the application must be filed with the Commission no later than 30 days from the issuance date of the notice soliciting comments and final terms and conditions.

Magalie R. Salas,
Secretary.

[FR Doc. E4-1608 Filed 7-15-04; 8:45 am]

BILLING CODE 6717-01-P